DEPARTMENT OF JUSTICE

Office of Justice Programs

[OMB Number: 1121-0319]

Agency Information Collection Activities: Extension of a Currently Approved Collection

ACTION: 60-Day Notice of Information Collection Under Review: National Survey of Youth in Custody, 2011-2012.

The Department of Justice (DOJ), Bureau of Justice Statistics, will be submitting the following information collection request to the Office of Management and Budget (OMB) for review and approval in accordance with the Paperwork Reduction Act of 1995. The proposed information collection is published to obtain comments from the public and affected agencies. Comments are encouraged and will be accepted for “sixty days” until March 29, 2011. This process is conducted in accordance with 5 CFR 1320.10.

If you have comments especially on the estimated public burden or associated response time, suggestions, or need a copy of the proposed information collection instrument with instructions or additional information, please contact Allen J. Beck, Ph.D., Bureau of Justice Statistics, 810 Seventh Street, NW., Washington, DC 20531 (phone 202-616-3277).

To ensure that comments on the information collection are received, OMB recommends that written comments be faxed to the Office of Information and Regulatory Affairs, OMB, Attn: DOJ Desk Officer, Fax: 202 395-7285, or e-mailed to oira_submission@omb.eop.gov. All comments should be identified with the OMB control number [1121-0319]. Also include the DOJ docket number found in brackets in the heading of this document.

Written comments and suggestions from the public and affected agencies concerning the proposed collection of information are encouraged. Your comments should address one or more of the following four points:

• Evaluate whether the proposed collection of information is necessary for the proper performance of the functions of the agency, including whether the information will have practical utility;

• Evaluate the accuracy of the agencies estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Overview of This Information Collection

(1) Type of Information Collection: New data collection.

(2) Title of the Form/Collection: National Survey of Youth in Custody, 2011-2012.

(3) Agency form number, if any, and the applicable component of the Department of Justice sponsoring the collection: Form numbers not available at this time. The Bureau of Justice Statistics, Office of Justice Programs, Department of Justice is the sponsor for the collection.

(4) Affected public who will be asked or required to respond, as well as a brief abstract: Primary: State, Local, or Tribal Government. Other: Federal Government, Business or other for-profit, Not-for-profit institutions. The work under this clearance will be used to develop and implement surveys to produce estimates for the incidence and prevalence of sexual assault within juvenile correctional facilities as required under the Prison Rape Elimination Act of 2003 (Pub. L. 108-79). Juvenile facility points of contact will be asked to fill out an online survey gathering facility-level characteristics. Sampled youth in custody will be asked to complete an audio computer-assisted self-interview about their experiences inside the facility.

(5) An estimate of the total number of respondents and the amount of time estimated for an average respondent to respond: It is estimated that 362 facility points of contact will spend approximately one hour filling out the facility characteristics questionnaire. It is estimated that 13,289 respondents will spend approximately 30 minutes on average responding to the survey.

(6) An estimate of the total public burden (in hours) associated with the collection: There are an estimated 14,587 total burden hours associated with this collection (including gathering facility-level information, obtaining parental consent, administrative records, and roster processing).

If additional information is required, contact: Lynn Murray, Department Clearance Officer, United States Department of Justice, Justice Management Division, Policy and Planning Staff, Two Constitution Square, 145 N Street, NE., Suite 2E-502, Washington, DC 20530.

Dated: January 25, 2011.
Lynn Murray,
Department Clearance Officer, PRA, United States Department of Justice.

[FR Doc. 2011-1959 Filed 1-27-11; 8:45 am]

BILLING CODE 4410-18-P